NATIONAL AERONAUTICS AND SPACE ADMINISTRATION

[Notice (01-155)]

Notice of Prospective Patent License

AGENCY: National Aeronautics and Space Administration.

ACTION: Notice of Prospective Patent License.

SUMMARY: NASA hereby gives notice that Fiber Materials, Inc. of Biddeford, Maine has applied for an exclusive license to practice the invention described and claimed in U.S. Patent No. 5,610,363, entitled “Enhanced Whipple Shield,” which is assigned to the United States of America as represented by the Administrator of the National Aeronautics and Space Administration. Written objections to the prospective grant of a license should be sent to Johnson Space Center.

DATE(S): Responses to this notice must be received by January 9, 2002.

FOR FURTHER INFORMATION CONTACT: James M. Cate, Patent Attorney, NASA Johnson Space Center, Mail Stop HA, Houston, TX 77058-8452; telephone (281) 483-1001.

Dated: November 30, 2001.
Edward A. Frankle,
General Counsel.

[FR Doc. 01-30426 Filed 12-7-01; 8:45 am]

BILLING CODE 7510-01-P